DEPARTMENT OF ENERGY

Federal Energy Regulatory Commission

[Docket No. IC12-3-000]

Commission Information Collection Activities (FERC-598); Comment Request

AGENCY: Federal Energy Regulatory Commission, Energy.

ACTION: Comment request.

SUMMARY: In compliance with the requirements of the Paperwork Reduction Act of 1995, 44 U.S.C. 3507(a)(1)(D), the Federal Energy Regulatory Commission (Commission or FERC) is submitting the information collection FERC-598, Self Certification for Entities Seeking Exempt Wholesale Generator or Foreign Utility Company Status, to the Office of Management and Budget (OMB) for review of the information collection requirements. Any interested person may file comments directly with OMB and should address a copy of those comments to the Commission as explained below. The Commission issued a Notice in the Federal Register (77 FR 97, 1/3/2012) requesting public comments. FERC received no comments on the FERC-598 and is making this notation in its submittal to OMB.

DATES: Comments on the collection of information are due by April 19, 2012.

ADDRESSES: Comments filed with OMB, identified by the OMB Control No. 1902-0166, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-3-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-598, Self Certification for Entities Seeking Exempt Wholesale Generator or Foreign Utility Company Status.

OMB Control No.: 1902-0166.

Type of Request: Three-year extension of the FERC-598 information collection requirements with no changes to the reporting requirements.

Abstract: The Commission uses the information collected under the requirements of FERC-598, “Self Certification for Entities Seeking Exempt Wholesale Generator or Foreign Utility Company Status” (OMB Control No. 1902-0166), to implement the statutory provisions of Title XII, subchapter F of the Energy Policy Act of 2005 (EPAct 2005).¹

¹ Energy Policy Act of 2005, Public Law 109-58, 119 Stat. 594 (2005) (codified at 42 U.S.C. 16451, et seq.)

EPAct 2005 repealed the Public Utility Holding Company Act (PUHCA) of 1935 in its entirety, including section 32. This repeal enabled the Commission to exempt wholesale generators from PUHCA 1935 on a case-by-case basis. The Commission amended its regulations (in Order No. 667 ²) to add procedures for self-certification by entities seeking exempt wholesale generator (EWG) and foreign utility company (FUCO) status. Moreover, Order No. 667 implemented the repeal of PUHCA 1935 and the supplementary enactment of PUHCA 2005. This self-certification is similar to the process available to entities that seek qualifying facility status.

² Repeal of the Public Utility Holding Company Act of 1935 and Enactment of the Public Utility Holding Company Act of 2005, 70 FR. 75,592 (2005), FERC Statutes and Regulations ¶ 31,197 (2005) Order on reh'g, 71 FR 28,446 (2006), FERC Statutes and Regulations ¶ 31,213 (2006), order on reh'g, 71 FR 42,750 (2006), FERC Statutes and Regulations ¶ 31,224 (2006), order on reh'g, FERC ¶ 61,133 (2007).

An EWG is a “person engaged directly, or indirectly through one or more affiliates * * * and exclusively in the business of owning or operating, or both owning and operating, all or part of one or more eligible facilities and selling electric energy at wholesale.” ³ A FUCO is a company that “owns or operates facilities that are not located in any state and that are used for the generation, transmission, or distribution of electric energy for sale or the distribution at retail of natural or manufactured gas for heat, light, or power, if such company: (1) Derives no part of its income, directly or indirectly, from the generation, transmission, or distribution of electric energy for sale or the distribution at retail of natural or manufactured gas for heat, light, or power, within the United States; and (2) neither the company nor any of its subsidiary companies is a public-utility company operating in the United States.” ⁴

³ 18 CFR 366.1.

⁴ 18 CFR 366.1.

An exempt EWG or FUCO or its representative may file with the Commission a notice of self certification demonstrating that it satisfies the definition of exempt wholesale generator or foreign utility company. In the case of EWGs, the person filing a notice of self certification must also file a copy of the notice of self certification with the state regulatory authority of the state in which the facility is located and that person must also represent to the Commission in its submission that it has filed a copy of the notice with the appropriate state regulatory authority.⁵

⁵ 18 CFR 366.7.

A submission of the information is necessary for the Commission to carry out its responsibilities under EPAct 2005.⁶ The Commission implements its responsibilities through the Code of Federal Regulations (CFR) Title 18 Part 366. These filing requirements are mandatory.

⁶ 42 U.S.C. 16451 et seq.

Type of Respondents: EWGs and FUCOs.

Estimate of Annual Burden: ⁷ The Commission estimates the total Public Reporting Burden for this information collection as:

⁷ Burden is defined as the total time, effort, or financial resources expended by persons to generate, maintain, retain, or disclose or provide information to or for a Federal agency. For further explanation of what is included in the information collection burden, reference 5 Code of Federal Regulations 1320.3.

FERC-598 (IC12-3-000): Self Certification for Entities Seeking Exempt Wholesale Generator or Foreign Utility Company Status
| Number of respondents (A) | Number of responses per respondent (B) | Total number of responses (A) × (B) = (C) | Average burden hours per response (D) | Estimated total annual burden (C) × (D)
EWG/FUCOs | 102 | 1 | 102 | 6 | 612

The total estimated annual cost burden to respondents is $41,890 [612 hours ÷ 2080 ⁸ hours/year = 0.29423 years * $142,372 ⁹ = $41,890].

⁸ 2080 hours = 40 hours/week * 52 weeks (1 year)

⁹ Average annual salary per employee in 2011.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 14, 2012.
Kimberly D. Bose,
Secretary.

[FR Doc. 2012-6649 Filed 3-19-12; 8:45 am]

BILLING CODE 6717-01-P